SURFACE TRANSPORTATION BOARD

[Docket No. FD 36446]

DFW & Southern Railway Company—Operation Exemption—Rail Line at MidTexas International Center

DFW & Southern Railway Company (DFW), a noncarrier, has filed a verified notice of exemption under 49 CFR 1150.31 to operate over approximately 18.2 miles of trackage at the MidTexas International Center (Inland Port), located north of State Highway 287 and east of U.S. Highway 67 in Midlothian, Tex. (the Line).

DFW states that it intends to execute an operating agreement with Texas Properties Trust, the owner of the Line, to provide common carrier service over the Line. DFW also states that, prior to commencing operations over the Line, it intends to enter into service agreements with various parties to provide interchange, haulage, and switching services over the Line. DFW states that another rail carrier, Texas Central Business Lines Corporation (TCB), currently provides common carrier service over the Line ¹ and that, prior to commencing operations over the Line, DFW will enter into agreements with TCB for joint use and operating protocols over the Line.

¹ See Tex. Cent. Bus. Lines Corp.—Operation Exemption—MidTexas Int'l Ctr., FD 33997 (STB served Feb. 9, 2001) (authorizing TCB to operate over five miles of track at Inland Port). In a supplement filed on October 23, 2020, DFW provided additional information regarding the Line, including that additional track was built at Inland Port after the 2001 proceeding.

DFW certifies that its projected annual revenues as a result of the transaction will not exceed $5 million and will not result in the creation of a Class I or Class II carrier. DFW also certifies that the agreements to be executed will not include any provision limiting DFW's future interchange of traffic with a third-party connecting carrier.

The transaction may be consummated on or after November 22, 2020, the effective date of the exemption.

If the verified notice contains false or misleading information, the exemption is void ab initio. Petitions to revoke the exemption under 49 U.S.C. 10502(d) may be filed at any time. The filing of a petition to revoke will not automatically stay the effectiveness of the exemption. Petitions for stay must be filed no later than November 13, 2020 (at least seven days before the exemption becomes effective).

All pleadings, referring to Docket No. FD 36446, should be filed with the Surface Transportation Board via e-filing on the Board's website. In addition, a copy of each pleading must be served on DFW's representative, L. Randall Denton, P.O. Box 80, Midlothian, TX 76065.

According to DFW, this action is categorically excluded from environmental review under 49 CFR 1105.6(c) and from historic preservation reporting requirements under 49 CFR 1105.8(b)(1).

Board decisions and notices are available at www.stb.gov.

Decided: November 2, 2020.
By the Board, Allison C. Davis, Director, Office of Proceedings.
Regena Smith-Bernard,
Clearance Clerk.

[FR Doc. 2020-24733 Filed 11-5-20; 8:45 am]

BILLING CODE 4915-01-P